DEPARTMENT OF AGRICULTURE

Forest Service

DEPARTMENT OF THE INTERIOR

Bureau of Land Management

[CO-800][1920-PP-4070]

Notice of Availability of the Record of Decision (ROD) for the Northern San Juan Basin Coal Bed Methane Development Project Final Environmental Impact Statement, Colorado

AGENCY: Bureau of Land Management, Interior. U.S. Forest Service, Agriculture.

ACTION: Notice of availability.

SUMMARY: Pursuant to the National Environmental Policy Act of 1969, the Federal Land Policy and Management Act of 1976, the National Forest Management Act of 1976, and other regulatory requirements, the Joint Lead Agencies announce the availability of the Record of Decision (ROD) for the Northern San Juan Basin Coal Bed Methane Development Project Final Environmental Impact Statement (FEIS) for natural gas development in La Plata and Archuleta Counties, Colorado. The Joint Lead Agencies have issued the ROD to document agency decisions, including selection of FEIS Preferred Alternative 7, with specific modifications and requirements for monitoring and mitigation.

DATES: The ROD documents the Bureau of Land Management's (BLM) and the U.S. Forest Service's (USFS) decisions and describes the agencies' appeal processes and timeframes. Official notice of USFS appeal processes and timeframes will be published separately in the newspaper of record, the Durango Herald. Those wishing to appeal USFS decisions should rely on the information presented in that official notice when published.

ADDRESSES: Requests for copies of the ROD may be sent by mail to the San Juan Public Lands Center, 15 Burnett Court, Durango, CO 81301, Attn: Walt Brown, or by e-mail to: nsjb-feis@arcadis-us.com. The ROD is available electronically at http://www.nsjb-eis.net, or http://www.fs.fed.us/r2/sanjuan/projects/projects.shtml. Hard copies of the ROD are available for review at the San Juan Public Lands Center, 15 Burnett Court, Durango Colorado 81301, the Columbine Ranger District and Field Office, 367 Pearl Street, Bayfield Colorado 81122, and the Pagosa Ranger District and Field Office, 180 Second Street, Pagosa Springs, Colorado 81147.

FOR FURTHER INFORMATION CONTACT: Walt Brown or Jim Powers at the above address, or phone: 970-385-1372.

SUPPLEMENTARY INFORMATION: The FEIS analyzes industry's gas field development proposal (approximately 185 new gas wells involving federal authority) and four other alternatives in a 125,000-acre Study Area in the Northern San Juan Basin of Colorado. The Study Area occupies portions of La Plata and Archuleta Counties, and is bounded on the south by the Southern Ute Reservation and on the west, north and east by the arcing line of the base of the Pictured Cliffs sandstone. The Study Area consists of approximately 7,000 acres of BLM administered land, 49,000 acres of U.S. Forest Service administered land, 9,000 acres of private lands with federal minerals and 60,000 acres of state or privately held (fee) lands with non-federal minerals.

The ROD is based on the FEIS and its supporting project record. The ROD documents BLM and USFS project decisions, including selection of FEIS Preferred Alternative 7 (approximately 138 new gas wells involving federal authority), with specific modifications. The ROD also documents requirements for gas field development in the Northern San Juan Basin within the framework of modified Alternative 7, including monitoring, mitigation, and environmental protection measures.

Dated: September 25, 2006.
Mark W. Stiles,
Center Manager/Forest Supervisor, San Juan Public Lands Center, Durango, Colorado.

Editorial Note: This document was received at the Office of the Federal Register on March 30, 2007.

[FR Doc. E7-6291 Filed 4-4-07; 8:45 am]

BILLING CODE 4310-JB-P